NATIONAL ARCHIVES AND RECORDS ADMINISTRATION

[NARA-2015-046]

Agency Information Collection Activities: Proposed Collection; Comment Request

AGENCY: National Archives and Records Administration (NARA).

ACTION: Notice.

SUMMARY: NARA gives public notice that it proposes to request an extension of an approved information collection, Independent Researcher Listing Application, NA Form 14115, used by independent researchers to provide their contact information. We invite you to comment on this proposed information collection pursuant to the Paperwork Reduction Act of 1995.

DATES: We must receive written comments on or before August 10, 2015.

ADDRESSES: Send comments to Paperwork Reduction Act Comments (ISSD), Room 4400; National Archives and Records Administration; 8601 Adelphi Road; College Park, MD 20740-6001, fax them to 301-713-7409, or email them to tamee.fechhelm@nara.gov.

FOR FURTHER INFORMATION CONTACT: Contact Tamee Fechhelm by telephone at 301-837-1694 or fax at 301-713-7409 with requests for additional information or copies of the proposed information collections and supporting statements.

SUPPLEMENTARY INFORMATION: Pursuant to the Paperwork Reduction Act of 1995 (Pub. L. 104-13), NARA invites the public and other Federal agencies to comment on proposed information collections. The comments and suggestions should address one or more of the following points: (a) Whether the proposed information collection is necessary for NARA to properly perform its functions; (b) NARA's estimate of the burden of the proposed information collection and its accuracy; (c) ways NARA could enhance the quality, utility, and clarity of the information it collects; (d) ways NARA could minimize the burden on respondents of collecting the information, including through information technology; and (e) whether the collection affects small businesses. We will summarize any comments you submit and include the summary in our request for Office of Management and Budget (OMB) approval. All comments will become a matter of public record. In this notice, NARA solicits comments concerning the following information collection:

Title: Independent Researcher Listing Application.

OMB number: 3095-0054.

Agency form numbers: NA Form 14115.

Type of review: Regular.

Affected public: Individuals or households.

Estimated number of respondents: 458.

Estimated time per response: 10 minutes.

Frequency of response: On occasion.

Estimated total annual burden hours: 76.

Abstract: To accommodate both the public and NARA staff, the Customer Services Division (RD-DC) of the National Archives maintains a listing of independent researchers for the public. We make use of various lists of independent researchers who perform freelance research for hire in the Washington, DC, area and send them, upon request, to researchers who cannot travel to the metropolitan area to conduct their own research. All interested independent researchers provide their contact information via this form. Collecting contact and other key information from each independent researcher and providing such information to the public when deemed appropriate will only increase business. This form is not a burden in any way to any independent researcher who voluntarily submits a completed form. Inclusion on the list will not be viewed or advertised as an endorsement by the National Archives and Records Administration (NARA). The listing is compiled and disseminated as a service to the public.

Dated: May 28, 2015.
Swarnali Haldar,
Executive for Information Services/CIO.

[FR Doc. 2015-14064 Filed 6-8-15; 8:45 am]

BILLING CODE 7515-01-P